DEPARTMENT OF HEALTH AND HUMAN SERVICES

National Institutes of Health

Center for Scientific Review; Amended Notice of Meeting

Notice is hereby given of a change in the meeting of the Child Psychopathology and Developmental Disabilities Study Section, June 17, 2021, 09:00 a.m. to June 18, 2021, 08:00 p.m., National Institutes of Health, Rockledge II, 6701 Rockledge Drive, Bethesda, MD 20892 which was published in the Federal Register on May 20, 2021, 86 FR 27459. Kirk Thompson, Ph.D., Kirk.Thompson@nih.gov, (240) 498-9897, will be the new Contact person, replacing Katherine Morasch as Scientific Review Officer. The meeting date and location remain the same. The meeting is closed to the public.

Dated: June 3, 2021.
Miguelina Perez,
Program Analyst, Office of Federal Advisory Committee Policy.

[FR Doc. 2021-12028 Filed 6-8-21; 8:45 am]

BILLING CODE 4140-01-P